FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 2, 2016.

A. Federal Reserve Bank of Minneapolis (Jacquelyn K. Brunmeier, Assistant Vice President) 90 Hennepin Avenue, Minneapolis, Minnesota 55480-0291:

1. Douglas M. Taylor, Bemidji, Minnesota, individually and as trustee of Citizens State Bank Midwest 401(k) Profit Sharing Plan, Cavalier, North Dakota (“Profit Sharing Plan”), and as part of a group acting in concert with the Profit Sharing Plan, Nancy R. Helling, Saint Cloud, Minnesota, and Ramona D. Taylor Vosper, Neche, North Dakota; to acquire voting shares of Pembina County Bankshares, Ltd., and thereby indirectly acquire voting shares of Citizens State Bank—Midwest, both in Cavalier, North Dakota.

Board of Governors of the Federal Reserve System, April 12, 2016.
Michael J. Lewandowski,
Associate Secretary of the Board.

[FR Doc. 2016-08809 Filed 4-15-16; 8:45 am]

BILLING CODE 6210-01-P